DEPARTMENT OF ENERGY

Notice of Request for Information (RFI) regarding Preparing Workers and Businesses To Deliver Energy Efficiency and Residential Building Electrification Measures

AGENCY: Office of State and Community Energy Programs, Department of Energy (DOE).

ACTION: Request for information (RFI).

SUMMARY: The U.S. Department of Energy's (DOE) Office of State and Community Energy Programs (SCEP) invites public input for its Request for Information (RFI) number DE-FOA-0002885 regarding the solicitation process and structure of future DOE Funding Opportunity Announcements (FOA) to fund the Energy Auditor and Career Skills Training (EAT and CST) grant programs, in accordance with the Infrastructure Investment and Jobs Act, also known as the Bipartisan Infrastructure Law (BIL). This RFI also seeks public input on the State-Based Home Energy Efficiency Contractor Training program (Contractor Training Program), as set forth in the Inflation Reduction Act (IRA). The information collected from this RFI will be used by DOE for planning purposes to develop one or multiple potential FOAs related to these programs.

DATES: Responses to the RFI must be received no later than 5:00 p.m. EDT on January 26, 2023.

ADDRESSES: Interested parties are to submit comments electronically to eeworkforceprograms@hq.doe.gov. Responses must be provided as attachments to an email that includes “Workforce RFI Response” in the subject line. It is recommended that attachments with file sizes exceeding 25MB be compressed (i.e., zipped) to ensure message delivery. Responses must be provided as a Microsoft Word (.docx), text document, or PDF attachment to the email, and no more than 10 pages in length, 12-point font, 1-inch margins. Only electronic responses will be accepted. The complete RFI is located at https://eere-exchange.energy.gov/. For ease of replying and to aid categorization of your responses, please copy and paste the RFI questions, including the question numbering, and use them as a template for your response. Respondents may answer as many or as few questions as they wish.

FOR FURTHER INFORMATION CONTACT: Questions may be addressed to Mary MacPherson, email at eeworkforceprograms@hq.doe.gov or phone number 202-586-5000. Further instruction can be found in the RFI document posted on https://eere-exchange.energy.gov/.

SUPPLEMENTARY INFORMATION: On November 15, 2021, President Joseph R. Biden, Jr. signed the Bipartisan Infrastructure Law (BIL),¹ which appropriates more than $62 billion to DOE to ensure the clean energy future delivers true economic prosperity to the American people by:

¹ Infrastructure Investment and Jobs Act, Public Law 117-58 (November 15, 2021).

• Investing in American manufacturing and workers, including good-paying jobs that are subject to Davis-Bacon prevailing wage protections and provide the free and fair opportunity to join a union, effective workforce development to upskill incumbent and dislocated workers, and equitable workforce development pathways for good jobs for workers from underserved communities.

• Expanding access to energy efficiency and clean energy for families, communities, and businesses.

• Delivering reliable, clean, and affordable power to more Americans.

• Building the technologies of tomorrow through clean energy demonstrations.

On August 16, 2022, President Biden signed the Inflation Reduction Act (IRA).² The energy and climate provisions of this bill include tax credits for clean energy technologies, almost $9 billion in residential energy efficiency rebates, $200 million for energy efficiency contractor training, and billions more for clean energy research and development, community investment, energy justice, and permitting processes. Sections 40503 and 40513 ³ of the BIL established the EAT and CST programs, respectively. Section 50123 ⁴ of the IRA established the Contractor Training Program.

² Inflation Reduction Act, Public Law 117-169 (August 16, 2022).

³ Codified at 42 U.S.C. 18793 and 18802, respectively.

⁴ Codified at 42 U.S.C. 18795b.

SCEP intends to use principles of equity and justice to guide BIL and IRA implementation, consistent with the Biden Administration's commitments to ensure that overburdened, underserved, and underrepresented individuals and communities have access to federal resources. The BIL and IRA implementation processes should advance equity for all, including people of color and others who have been historically underserved, marginalized, and adversely affected by persistent poverty and inequality. BIL and IRA implementation efforts for the EAT and CST support the goal that 40 percent of the overall benefits of certain federal investments flow to disadvantaged communities (the Justice40 Initiative).

The implementation of the EAT, CST, and Contractor Training Programs aims to support the creation of good-paying jobs with the free and fair choice to join a union, the incorporation of strong labor standards, and high-road workforce development, especially sector-based training, Registered Apprenticeship, and quality pre-apprenticeship.

Having a well-trained workforce is essential to improving the energy performance and quality of the nation's building stock, developing career pathways in the building trades and ensuring Federal funds can be deployed quickly and efficiently to meet our climate challenge and market demand. A study from the National Renewable Energy Laboratory (NREL) states the number of workers in renewable energy and energy efficiency will double by 2025 and triple by 2030.⁵ Workforce development and business owner training programs at the local, state, and federal levels can prepare students, workers, and businesses for opportunities in these crucial industries. For example, a number of cities, states, and utilities are delivering energy efficiency workforce development programs to increase the supply of qualified workers while also pursuing policies and programs to increase demand for the technologies and services these workers deliver.

⁵ NREL, State-Level Employment Projections for Four Clean Energy Technologies in 2025 and 2030.

DOE seeks to enhance and expand new and established, nonprofit-, state-, and locally driven efforts to scale a well-trained, diverse workforce. The agency will do so in part through three new workforce development programs: Contractor Training Program, EAT, and CST. DOE intends to use these three programs to support the development of a more equitable energy efficiency and residential buildings-focused electrification workforce. For example, the existing energy efficiency workforce is disproportionately male and has a lower concentration of Hispanic workers compared to the national, economywide workforce, although it has a higher percentage of other non-White workers.

The table below describes the purpose, funding levels, and eligible entities for the Contractor Training Program, EAT, and CST.

Program name | Authorizing statute | Funds available | Eligible recipient(s) | Purpose
Energy Auditor Training (EAT) | BIL Sec. 40503 | $40 million for the period of fiscal years 2022 through 2026 | States ⁶ | The Secretary “shall establish a competitive grant program” to “award grants to eligible States to train individuals to conduct energy audits or surveys of commercial and residential buildings.”
Career Skills Training (CST) | BIL Sec. 40513 | $10 million to remain available until expended | Nonprofit partnerships ⁷ | The Secretary “shall award grants to eligible entities to pay the Federal share of associated career skills training programs under which students concurrently receive classroom instruction and on-the-job training for the purpose of obtaining an industry-related certification to install energy efficient buildings technologies.”
State-Based Home Energy Efficiency Contractor Training Program (Contractor Training Program) | IRA Sec. 50123 | $200 million to remain available through September 30, 2031 | States ⁸ | To develop and implement a State program to “provide training and education to contractors involved in the installation of home energy efficiency and electrification improvements, including improvements eligible for rebates under a HOMES rebate program or a high-efficiency electric home rebate program, as part of an approved State energy conservation plan under the State Energy Program.”

Purpose

⁶ Under section 40503(a)(2), an “eligible State” means a State that—“has a demonstrated need for assistance for training energy auditors; and [] meets any additional criteria determined necessary by the Secretary.” 42 U.S.C. 18793(a)(2).

⁷ Under section 40513(a), an “eligible entity” means a nonprofit partnership that “(1) includes the equal participation of industry, including public or private employers, and labor organizations, including joint labor-management training programs; (2) may include workforce investment boards, community-based organizations, qualified service and conservation corps, educational institutions, small businesses, cooperatives, State and local veterans agencies, and veterans service organizations; and (3) demonstrates (A) experience in implementing and operating worker skills training and education programs; (B) the ability to identify and involve in training programs carried out under this section, target populations of individuals who would benefit from training and be actively involved in activities relating to energy efficiency and renewable energy industries; and (C) the ability to help individuals achieve economic self-sufficiency.” 42 U.S.C. 18802(a).

⁸ The term “State” means a State, the District of Columbia, and a United States Insular Area, which means American Samoa, the Commonwealth of the Northern Mariana Islands, Guam, the Commonwealth of Puerto Rico, and the United States Virgin Islands. IRA sections 50111 and 50211 (42 U.S.C. 17113b note and 43 U.S.C. 3006 note, respectively).

The purpose of this RFI is to solicit feedback from states and nonprofits, as well as partner stakeholders such as labor unions, employers and contractors, workforce development boards (WDBs), institutions of higher education including community colleges, Historically Black Colleges and Universities (HBCUs), Tribal Colleges and Universities (TCUs), Hispanic Serving Institutions (HSIs), and other Minority Serving Institutions (MSIs), energy efficiency training providers, researchers, community partners, manufacturers, community-based organizations (CBOs), and others on issues related to the development and implementation of the Contractor Training Program, EAT, and CST. These programs focus on energy efficiency and/or residential buildings-focused electrification and do not cover renewable energy or transportation electrification workforce development programs. This is solely a request for information and not a Funding Opportunity Announcement. SCEP is not accepting applications through the release of this RFI. Specifically, DOE is interested in public input on questions across the following categories:

A. Respondent type

B. Workforce and business characteristics

C. Workforce development and business owner training strategies

D. Accessing federal funding

E. Equity and partnerships

F. Access to high quality jobs

G. Other

Confidential Business Information: According to 10 CFR 1004.11, any person submitting information that he or she believes to be confidential and exempt by law from public disclosure should submit via email, postal mail, or hand delivery two well-marked copies: one copy of the document marked “confidential” including all the information believed to be confidential, and one copy of the document marked “non-confidential” with the information believed to be confidential deleted. Submit these documents via email or on a CD, if feasible. DOE will make its own determination about the confidential status of the information and treat it according to its determination.

Signing Authority

This document of the Department of Energy was signed on December 16, 2022, by Dr. Henry McKoy, Director of the Office of State and Community Energy Programs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 19, 2022.
Treena V. Garrett,
Federal Register Liaison Officer, U.S. Department of Energy.

[FR Doc. 2022-27901 Filed 12-21-22; 8:45 am]

BILLING CODE 6450-01-P